FEDERAL MARITIME COMMISSION

Notice of Request for Public Comments Regarding Extensions to Existing OMB Clearances

AGENCY: Federal Maritime Commission.

ACTION: Notice.

SUMMARY: The Federal Maritime Commission (FMC or Commission) is transmitting clearance packages to the Office of Management and Budget for continued approval of the following information collections (extensions with no changes) under the provisions of the Paperwork Reduction Act of 1995, as amended: OMB No. 3072-0012 (Security for the Protection of the Public and Related Application Form FMC-131, Application for a Certificate of Financial Responsibility); OMB No. 3072-0018 (Licensing, Financial Responsibility Requirements and General Duties for Ocean Transportation Intermediaries and FMC Form 18); OMB No. 3072-0045 (Ocean Common Carrier and Marine Terminal Operator Agreements); OMB No. 3072-0060 (Controlled Carriers); OMB No. 3072-0061 (Marine Terminal Operator Schedules and Related Form FMC-1); OMB No. 3072-0064 (Carrier Automated Tariff Systems and Related Form FMC-1); and OMB No. 3072-0065 (Service Contracts). The Commission received one comment in response to the Notice.

DATES: Comments must be submitted on or before July 22, 2002.

ADDRESSES: Send written comments to:

Office of Information and Regulatory Policy, Office of Management and Budget, New Executive Office Building, Docket Room, Rm. 10201, Washington, DC 20503. Attn: Desk Officer for the Federal Maritime Commission.

And to:

Secretary, Federal Maritime Commission, 800 N. Capitol Street, NW., Washington, DC 20573.

Comments in electronic form should be sent to: oira_docket@omb.gov and secretary@fmc.gov.

FOR FURTHER INFORMATION: Send requests for copies of the current OMB clearances to: George D. Bowers, Director, Office of Information Resources Management, Federal Maritime Commission, 800 North Capitol Street, NW., Washington, DC 20573. Telephone: (202) 523-5835. George@fmc.gov.

SUPPLEMENTARY INFORMATION: On March 7, 2002, the Federal Maritime Commission published a notice and request for comments (Notice) in the Federal Register regarding the Commission's request for continued approval from the Office of Management and Budget (OMB) for information collections as required by the Paperwork Reduction Act of 1995. 67 FR 10407. One comment was received in response to the Notice with sole regard to OMB No. 3072-0045, the OMB certification for the Commission's information collection regarding agreements of marine terminal operators and ocean common carriers, as required and authorized by section 46 U.S.C. app. secs. 1703-1705 and Commission regulation 46 CFR part 535. That comment is addressed below. The Commission received no comments on any of the other requests for extensions of OMB clearance.

Comments of the Ocean Carrier Working Group Agreement on OMB Approval Number 3072-0045

Summary of the Comments

The Commission received comments on this request for an extension of OMB clearance from the Ocean Carrier Working Group Agreement (OCWGA), which is made up of twelve agreements filed under the Shipping Act of 1984, whose members in turn are forty-one ocean common carriers.¹ OCWGA comments that, based upon the experience of its members, the Commission has underestimated the burden involved in complying with the monitoring report requirements for “Class A” agreements and urges the Commission to revise both its estimates of that burden and the reporting requirements themselves. OCWGA suspects that the disparity between its estimate and that of the FMC may be due to the omission from the FMC's estimate of time spent by the agreement secretariat in preparing the monitoring reports and to an underestimation of the time it takes carriers to complete the monitoring reports.

¹ A.P. Moller-Maersk Sealand; APL Co. PTE, Ltd./American President Lines, Ltd.; Crowley Liner Services, Inc.; King Ocean Services, Ltd.; Seaboard Marine, Ltd.; Frontier Liner Services; Alianca Navegacao e Logistica Ltda.; CMA CGM, S.A.; Companhia Libra de Navegacao d/b/a Braztrans Line; CSAV d/b/a Euroatlantic Container Line and Chilean Line; Evergreen Marine Corporation (Taiwan) Ltd.; Hamburg-Sudamerikanische Dampfschifffahrtsgesellschaft KG d/b/a Columbus Line and Crowley American Transport; Lykes Lines Ltd., LLC; Mediterranean Shipping Company, S.A.; Montemar Maritima, S.A. d/b/a Pan American Independent Line; P&O Nedlloyd B.V./P&O Nedlloyd, Ltd.; Safmarine Container Lines, N.V.; Senator Lines GMbH; Zim Israel Navigation Co., Ltd.; Farrell Lines, Inc.; Italia di Navigazione, S.p.A.; The National Shipping Company of Saudi Arabia; United Arab Shipping Company (S.A.G.); Atlantic Container Line AB; Hapag-Lloyd Container Linie GMbH; Nippon Yusen Kaisha; Orient Overseas Container Line; Cosco Container Lines Company Ltd.; Hanjin Shipping Company, Ltd.; Hyundai Merchant Marine Co., Ltd.; Kawasaki Kisen Kaisha, Ltd.; Mitsui O.S.K. Lines, Ltd.; Yangming Marine Transport Corp.; Australia-New Zealand Direct Line, a division of CP Ships (U.K.), Ltd.; Contship Containerlines, a division of CP Ships (U.K.), Ltd.; Wallenius Wilhelmsen Lines AS; Compagnie Marseille Fret; Fesco Ocean Management Ltd. d/b/a Fesco Australia North America Line; Compania Chilena de Navegacion Interoceania, S.A.; South Pacific Shipping Company, Ltd. d/b/a Ecuadorian Line; and Trinity Shipping Line.

OCWGA asserts that the 170 person-hours per annum estimated by the Commission is too low. OCWGA estimates that the time it takes Class A agreements to collect and submit the information required on a quarterly basis by the monitoring requirements ranges from 10 person-hours per quarter to 100 person-hours per quarter, or, over the course of a year, between 40 and 400 person-hours on a per-agreement basis. The agreement secretariat obtains the information from its member carriers; OCWGA estimates that each carrier spends between 6 and 40 person-hours per quarter on the monitoring report data collection and assembly, or between 24 and 160 person-hours per annum.

Taking an average-size membership agreement made up of 7 carriers, and assuming that each carrier member of that Class A agreement spends 24 person-hours per annum on the monitoring report, in total, the members of that agreement will together spend 168 person-hours on monitoring reports annually. The agreement secretariat for that agreement, OCWGA estimates, may spend approximately 40 person-hours on the monitoring reports on an annual basis; then the agreement secretariat and its members, taken together, would spend 208 person-hours per annum on the Class A monitoring report. This estimate, 208 person-hours per annum, is approximately 20% higher than the Commission's estimate of 170 person-hours per annum. OCWGA suspects that the reason for the disparity is that the Commission neglected to estimate the time spent by an agreement secretariat, rather than just the carrier members of the agreement, in preparing the monitoring reports.

OCWGA's comments also urge the Commission to revise its current monitoring report requirements because they do not meet either: (1) the standards of the Paperwork Reduction Act of 1995, 44 U.S.C. 3501(1), and the Shipping Act of 1984, 46 U.S.C. app. sec. 1701(2) (which both call for a minimizing of regulatory burdens on industry); or (2) the current practical requirements of the Commission. OCWGA asserts that the dated and voluminous information required to be filed in the Class A monitoring report does not meet the needs of the Commission and imposes an undue burden on the industry. Therefore, OCWGA urges the Commission to eliminate the Class A monitoring report and redesignate the current Class B monitoring report as an “A/B monitoring report.” OCWGA also urges the Commission specifically to delete both: (1) The “Other Agreements” requirement, because the Commission already has that information; and (2) the “Port Service” requirement, because that information is typically of questionable value.

Discussion

OCWGA's comments appear to have misconstrued the Commission's estimate as having been based on a per-annum, rather than on a per-filing basis. The estimated per filing per respondent (which also did include agreement secretariats mentioned by OCWGA) person-hour burden for preparing a single Class A monitoring report was 170 hours. OCWGA's estimate was (on a per-respondent per-filing basis) a maximum of 100 person-hours, whereas that of the Commission was 170 person-hours. Nevertheless, the Commission has increased this estimated burden as discussed below.

In April 2002, Commission staff interviewed attorneys at two law firms that handle the filing of a large percentage of the agreements filed with the Commission. They indicated that the current estimated hour burden for compiling and filing an agreement was “too low” and that the current estimated hour burden for a Class A monitoring report was also “too low.”

Based on these remarks, as well as those of OCWGA in the comments summarized above, the Commission has adjusted the estimated burdens as follows. Originally, the Commission had estimated a per-filing burden for original agreement and amendment filings at 70 person-hours per filing; this was increased to 76 person-hours per filing. The estimated hour burden for Class A monitoring reports was increased from 170 to 225 hours. The second estimate represents an increase of approximately 25 percent over the Commission's original estimate.

The Commission originally created different monitoring report requirements for different classes of agreements based on market share and authority. It found that Class A agreements were those which were most likely to be of concern to the Commission and as such, the information required in those monitoring reports therefore reflects a greater level of detail than for other classes of agreements. The Commission constantly considers ways to improve its information collection and intends specifically to review and revise its monitoring report requirements. OCWGA's comments regarding specific revisions to the monitoring reports requirements will be considered at that time.

OMB Approval Requests by OMB Approval Number

1. Security for the Protection of the Public and Related Application Form FMC-131, Application for a Certificate of Financial Responsibility

OMB Approval Number: 3072-0012 (Expires November 30, 2002).

Abstract: Sections 2 and 3 of Public Law 89-777, 46 U.S.C. app. 817(d) and (e), require owners or charterers of passenger vessels with 50 or more passenger berths or stateroom accommodations and embarking passengers at United States ports and territories to (1) establish their financial responsibility to meet liability incurred for death or injury to passengers and other persons, and to (2) indemnify passengers in the event of nonperformance of transportation. The Commission's rules at 46 CFR part 540 implement Public Law 89-777 and specify financial responsibility coverage requirements for such owners and charterers.

Needs and Uses: The information will be used by the Commission's staff to ensure that passenger vessel owners and charterers have evidenced financial responsibility to indemnify passengers and others in the event of nonperformance or casualty.

Frequency: This information is collected when applicants apply for a certificate or when existing certificants change any information in their application forms.

Type of Respondents: The types of respondents are owners, charterers and operators of passenger vessels with 50 or more passenger berths or stateroom accommodations that embark passengers from U.S. ports or territories.

Number of Annual Respondents: The Commission estimates an annual respondent universe of 60.

Estimated Time Per Response: The time per response ranges from .5 to 6 hours for complying with the regulations and 8 hours for completing Application Form FMC-131. The total average time for both requirements for each respondent is 34.66 person-hours.

Total Annual Burden: The Commission estimates the total person-hour burden at 2,080 person-hours.

2. Licensing, Financial Responsibility Requirements and General Duties for Ocean Transportation Intermediaries and FMC Form 18

OMB Approval Number: 3072-0018 (Expires August 31, 2002).

Abstract: Section 19 of the Shipping Act of 1984, 46 U.S.C. app. sec. 1718, provides that no person in the United States may act as an ocean transportation intermediary (OTI) unless that person holds a license issued by the Commission. The Commission shall issue an OTI license to any person that the Commission determines to be qualified by experience and character to act as an OTI. Further, no person may act as an OTI unless that person furnishes a bond, proof of insurance or other surety in a form and amount determined by the Commission to insure financial responsibility. The Commission has implemented the provisions of section 19 in regulations contained in 46 CFR part 515, including financial responsibility forms FMC-48, FMC-67, FMC-68,and FMC-69, and its related license application form, FMC-18.

Needs and Uses: The Commission uses information obtained from Form FMC-18, as well as information contained in the Commission's files and letters of reference, to determine whether an applicant meets the requirements for a license. If the collection of information were not conducted, there would be no basis upon which the Commission could determine if applicants are qualified for licensing.

Frequency: This information is collected when applicants apply for a license or when existing licensees change certain information in their application forms.

Type of Respondents: Persons desiring to obtain a license to act as an OTI.

Number of Annual Respondents: The Commission estimates an annual respondent universe of 3,450.

Estimated Time Per Response: The time per response for completing Application Form FMC-18 averages 1.5 hours.

Total Annual Burden: The Commission estimates the total person-hour burden at 5,175 person-hours.

3. Ocean Common Carrier and Marine Terminal Operator Agreements

OMB Approval Number: 3072-0045 (Expires August 31, 2002).

Abstract: The Shipping Act of 1984, 46 U.S.C. app. secs. 1703-1705, requires certain classes of agreements between and among ocean common carriers and marine terminal operators to be filed with the Commission, specifies the mandatory content of those agreements, and defines the Commission's authorities and responsibilities in overseeing those agreements. Commission rules at 46 CFR part 535 set forth the form and manner for filing agreements and for the underlying commercial data necessary to evaluate agreements.

Needs and Uses: Under its pre-effectiveness review process, the Commission reviews agreement filings to determine statutory and regulatory compliance, as well as to assess any anti-competitive impact the agreement may have. After agreements become effective, the Commission continues to monitor agreement activities to ensure continued statutory and regulatory compliance. To accomplish this, the Commission continuously gathers, reviews, and interprets commercial data regarding the impact of agreements on competition, prices, and service in the U.S. foreign trades.

Frequency: The Commission has no control over how frequently agreements are entered into; this is solely a matter between the negotiating parties. When parties do reach an agreement that falls within the jurisdiction of the Commission, that agreement must be filed with the Commission. Ongoing surveillance of agreement activities is conducted through the review of minutes and quarterly monitoring reports filed by certain types of agreements the Commission has identified as having the greatest potential effects on competition.

Type of Respondents: Parties that enter into agreements subject to the Commission's oversight are ocean common carriers and marine terminal operators operating in the U.S. foreign trades.

Number of Annual Respondents: Over the last five years the Commission has averaged 360 agreement filings a year from an estimated potential universe of 682 regulated entities. Starting in 1996, certain agreements were required to file quarterly monitoring reports under these regulations. The number of annual respondents under this program will vary according to the number of agreements subject to the reporting obligation. The current estimated potential universe of respondents subject to quarterly monitoring reports is 420. In FY 2001, agreements subject to the monitoring report requirements filed 221 reports.

Estimated Time Per Response: It is estimated that the time for preparing and filing an agreement ranges anywhere from as little as three person-hours to as much as 150 person-hours. The current estimate of the average burden per respondent is 76 person-hours. Time required for preparing monitoring reports varies according to the complexity of the filing obligation. Class C agreements have the least burden, and it is estimated to be about 20 person-hours. Class A/B agreements require more detailed data and hence a greater burden. It is estimated that Class B monitoring reports require about 130 person-hours, and Class A reports about 225 person-hours. The current estimated time per respondent under the record-keeping obligations of the regulation is five person-hours.

Total Annual Burden: The current revised annual burden on respondents is estimated at 88,970 person-hours: 85,580 person-hours as the filing burden, and 3,390 person-hours as the record-keeping burden.

4. Controlled Carriers

OMB Approval Number: 3072-0060 (Expires August 31, 2002).

Abstract: Section 9 of the Shipping Act of 1984, 46 U.S.C. app. sec. 1708, requires that the Commission monitor the practices of controlled carriers to ensure that they do not maintain rates or charges in their tariffs and service contracts that are below a level that is just and reasonable; nor establish, maintain or enforce unjust or unreasonable classifications, rules or regulations in those tariffs or service contracts which result or are likely to result in the carriage or handling of cargo at rates or charges that are below a just and reasonable level. Commission regulations at 46 CFR part 565 establish the method by which the Commission determines whether a particular ocean common carrier is a controlled carrier subject to section 9 of the Act. When a government acquires a controlling interest in an ocean common carrier, or when a controlled carrier newly enters a United States trade, the Commission's rules require that such a carrier notify the Commission of these events.

Needs and Uses: The Commission uses these notifications in order to effectively discharge its statutory duty to determine whether a particular ocean common carrier is a controlled carrier and therefore subject to the requirements of section 9 of the Shipping Act of 1984.

Frequency: The submission of notifications from controlled carriers are not assigned to a specific time frame by the Commission; they are submitted as circumstances warrant. The Commission only requires notification when a majority portion of an ocean common carrier becomes owned or controlled by a government, or when a controlled carrier newly begins operation in any United States trade.

Type of Respondents: Controlled carriers are ocean common carriers which are owned or controlled by a government.

Number of Annual Respondents: Although it is estimated that only 5 of the 14 currently-classified controlled carriers may respond in any given year, because this is a rule of general applicability, the Commission considers the number of annual respondents to be 10.

Estimated Time Per Response: The estimated time for compliance is 7 person-hours per year.

Total Annual Burden: The Commission estimates the person-hour burden required to make such notifications at 70 person-hours per year.

5. Marine Terminal Operator Schedules and Related Form FMC-1

OMB Approval Number: 3072-0061 (Expires August 31, 2002).

Abstract: Section 8(f) of the Shipping Act of 1984, 46 U.S.C. app. 1707(f), provides that a marine terminal operator (MTO) may make available to the public a schedule of its rates, regulations, and practices, including limitations of liability for cargo loss or damage, pertaining to receiving, delivering, handling, or storing property at its marine terminal, subject to section 10(d)(1), 46 U.S.C. app. 1709(d)(1), of the Act. The Commission's rules governing MTO schedules are set forth at 46 CFR part 525.

Needs and Uses: The Commission uses information obtained from Form FMC-1 to determine the organization name, organization number, home office address, name and telephone number of the firm's representatives and the location of MTO schedules of rates, regulations and practices, and publisher, should the MTOs determine to make their schedules available to the public, as set forth in section 8(f) of the Shipping Act.

Frequency: This information is collected prior to an MTO's commencement of its marine terminal operations.

Type of Respondents: Persons operating as MTOs.

Number of Annual Respondents: The Commission estimates the respondent universe at 186.

Estimated Time Per Response: The Commission estimates an average of five person-hours per schedule.

Total Annual Burden: The Commission estimates the total person-hour burden at 930.

6. Carrier Automated Tariff Systems and Related Form FMC-1

OMB Approval Number: 3072-0064 (Expires August 31, 2002).

Abstract: Except with respect to certain specified commodities, section 8(a) of the Shipping Act of 1984, 46 U.S.C. app. 1707(a), requires that each common carrier and conference shall keep open to public inspection, in an automated tariff system, tariffs showing its rates, charges, classifications, rules, and practices between all ports and points on its own route and on any through transportation route that has been established. In addition, individual carriers or agreements among carriers are required to make available in tariff format certain enumerated essential terms of their service contracts. 46 U.S.C. app. 1707(c). The Commission is responsible for reviewing the accessibility and accuracy of automated tariff systems, in accordance with its regulations set forth at 46 CFR Part 520.

Needs and Uses: The Commission uses information obtained from Form FMC-1 to ascertain the location of common carrier and conference tariff publications.

Frequency: This information is collected when common carriers or conferences publish tariffs.

Type of Respondents: Persons desiring to operate as common carriers or conferences.

Number of Annual Respondents: The Commission estimates an annual respondent universe of 3,000.

Estimated Time Per Response: The time per response averages five person-hours per respondent for Form FMC-1 and tariff publication matters.

Total Annual Burden: The Commission estimates the total person-hour burden at 313,400 person-hours.

7. Service Contracts

OMB Approval Number: 3072-0065 (Expires August 31, 2002).

Abstract: The Shipping Act of 1984, 46 U.S.C. app. 1707, requires service contracts, except those dealing with bulk cargo, forest products, recycled metal scrap, new assembled motor vehicles, waste paper or paper waste, and their related amendments and notices to be filed confidentially with the Commission.

Needs and Uses: The Commission monitors service contract filings for acts prohibited by the Shipping Act of 1984.

Frequency: The Commission has no control over how frequently service contracts are entered into; this is solely a matter between the negotiating parties. When parties enter into a service contract it must be filed with the Commission.

Types of Respondents: Parties that enter into service contracts are ocean common carriers and agreements among ocean common carriers on the one hand, and shippers or shipper's associations on the other. The carrier party is responsible for filing the service contract.

Number of Annual Respondents: The Commission estimates an annual respondent universe of 155.

Estimated Time Per Response: The time per response ranges from one to eight hours.

Total Annual Burden: The Commission estimates the total person-hour burden at 303,953.

Bryant L. VanBrakle,
Secretary.

[FR Doc. 02-15502 Filed 6-19-02; 8:45 am]

BILLING CODE 6730-01-P